NATIONAL SCIENCE FOUNDATION

Notice of Permit Applications Received Under the Antarctic Conservation Act of 1978

AGENCY: National Science Foundation.

ACTION: Notice of permit applications received.

SUMMARY: The National Science Foundation (NSF) is required to publish a notice of permit applications received to conduct activities regulated under the Antarctic Conservation Act of 1978. NSF has published regulations under the Antarctic Conservation Act in the Code of Federal Regulations. This is the required notice of permit applications received.

DATES: Interested parties are invited to submit written data, comments, or views with respect to this permit application by November 24, 2017. This application may be inspected by interested parties at the Permit Office, address below.

ADDRESSES: Comments should be addressed to Permit Office, Office of Polar Programs, National Science Foundation, 2415 Eisenhower Avenue, Alexandria, Virginia 22314.

FOR FURTHER INFORMATION CONTACT: Nature McGinn, ACA Permit Officer, at the above address, 703-292-8030, or ACApermits@nsf.gov.

SUPPLEMENTARY INFORMATION: The National Science Foundation, as directed by the Antarctic Conservation Act of 1978 (Pub. L. 95-541, 45 CFR 671), as amended by the Antarctic Science, Tourism and Conservation Act of 1996, has developed regulations for the establishment of a permit system for various activities in Antarctica and designation of certain animals and certain geographic areas a requiring special protection. The regulations establish such a permit system to designate Antarctic Specially Protected Areas.

Application Details

Permit Application: 2018-019

1. Applicant: Cedar Wright, Expedition Leader, The North Face, 2660 Juniper Ave, Boulder, CO 80304.

Activity for Which Permit is Requested: Waste Management. The applicant is seeking a waste management permit for activities related to climbing and skiing mountain peaks in Queen Maud Land, Antarctica. The applicant proposed to establish a base camp near the Ulvetanna peak. All waste generated would be removed from Antarctica with the exception of urine and grey water. Any climbing equipment used would be removed to the extent practicable. The applicant would use best practices to minimize the risks of spills of designated pollutants. The applicant proposes to operate a small, battery-operated remotely piloted aircraft system (RPAS) consisting, in part, of a quadcopter equipped with a camera to collect footage of the expedition. The quadcopter would not be flown over concentrations of birds or mammals, or over Antarctic Specially Protected Areas. The RPAS would only be operated by a certified pilot with extensive experience. Several measures would be taken to prevent loss of the quadcopter including maintaining visual line of sight, limiting flight time to no more that 20 minutes, having a return home feature, operating only under calm weather conditions with good visibility, and not operating in areas where retrieving the quadcopter would not be possible.

Location: Queen Maud Land, Antarctica.

Dates: November 23—December 20, 2017.

Permit Application: 2018-020

2. Applicant: Dierk M. Reuter, Liton Services Inc, 180 E Pearson St, Apt 4505, Chicago, IL 60611.

Activity for Which Permit is Requested: Waste Management. The applicant is seeking a waste management permit for activities related to a proposed flight to King George Island and over the Antarctic Peninsula aboard a TBM 850 aircraft. The plane and crew will depart Punta Arenas, Chile and stop at the King George Island airfield prior to and following a non-stop flight over the Antarctic Peninsula, with a turnaround point at approximately 75 degrees South, 71 degrees West. The applicant proposes to overnight at King George Island before returning to Punta Arenas, Chile. All gear; emergency equipment and supplies; foodstuffs; garbage; and human waste would be stored in the aircraft removed from Antarctica upon departure. Gear would be new and/or de-contaminated before use in Antarctica. Emissions from the aircraft would be minimized through proper engine maintenance.

Location: King George Island; West Antarctic Peninsula.

Dates: December 20, 2017—January 31, 2018.

Permit Application: 2018-021

3. Applicant: Lars Maltha Rasmussen, Albatros Expeditions US Ltd, 4770 Biscayne Boulevard PHR, Miami, FL 33137.

Activity for Which Permit is Requested: Waste Management. The applicant proposes to operate small, battery-operated RPAS consisting, in part, of a quadcopter equipped with cameras to collect commercial and educational footage of the Antarctic. The quadcopter would not be flown over concentrations of birds or mammals, or over Antarctic Specially Protected Areas or Historic Sites and Monuments. The RPAS would only be operated by pilots with proficiency and experience, who are pre-approved by the Captain and Expedition Leader. Several measures would be taken to prevent loss of the quadcopter including only flying when the wind is less than 25 knots; total flight times in accordance with manufacturer specifications and appropriate to the cold conditions; having an automatic return feature in case of loss of control link or low battery; having an observer on the lookout for wildlife, people, and other hazards; and ensuring that the separation between the operator and quadcopter does not exceed an operational range beyond visual contact. The applicant is seeking a Waste Permit to cover any accidental releases that may result from operating the RPAS.

Location: Antarctic Peninsula region.

Dates: December 5, 2017-March 31, 2018.

Permit Application: 2018-025

4. Applicant: Bill Davis, VP Operations, Quark Expeditions, 3131 Elliot Avenue, Suite 250, Seattle, WA 98121.

Activity for Which Permit is Requested: Waste Management. The applicant is seeking a waste management permit associated with the operation of multiple tour vessels in the Antarctic Peninsula region. Each vessel will complete multiple cruises and multiple landings per cruise. Maximum passengers taken ashore at any one time will be limited to 100 persons. On selected voyages Quark would offer activities including shore excursions by Zodiac, kayaking, day paddling, stand-up paddle boarding, polar plunges, cross-country skiing, ice climbing and mountaineering, downhill skiing, and vessel-supported short overnight stays (camping). The applicant also proposes to operate a small, battery-operated remotely piloted aircraft system (RPAS) consisting, in part, of a quadcopter equipped with a camera to collect footage for commercial and educational purposes. Mitigation measures would be in place to reduce the risk of non-native species introductions and the risk of spills or releases to the environment. Waste generated during small boat and shore-based activities would be returned to the vessels for proper disposal.

For vessel-supported short overnight stays (camping): Camping would be away from vegetated sites and at least 150m from wildlife concentrations or lakes, protected areas, historical sites, and scientific stations. Tents would be pitched on snow, ice, or bare smooth rock, at least 15m from the high-water line. No food, other than emergency rations, would be brought onshore and all wastes, including human waste, would be collected and returned to the ship for proper disposal. Campers would be limited to 30 passengers plus staff, except at the following sites where campers are limited to 60 passengers plus staff: Damoy Point/Dorian Bay, Danco Island, Pleneau Island, Leith Cove, and Rongé Island. The ratio of staff to passengers would be 1:10. Camping would include overnight stays of any duration, but in accordance with the visitor site guidelines for each site.

For remotely piloted aircraft systems (RPAS) operation: The quadcopter would not be flown over concentrations of birds or mammals, or over Antarctic Specially Protected Areas or Historic Sites and Monuments. The RPAS would only be operated by pilots with adequate experience. Several measures would be taken to prevent against loss of the quadcopter including painting the them a highly visible color; only flying when the wind is calm; flying for only 15 minutes at a time to maintain adequate battery charge; having a flotation device for operations over water, and an “auto go home” feature in case of loss of control link or low battery; having an observer on the lookout for wildlife, people, and other hazards; and ensuring that the separation between the operator and quadcopter does not exceed a maximum distance of 300 meters.

Location: Antarctic Peninsula region. For camping: Damoy Point/Dorian Bay, Danco Island, Rongé Island, Errera Channel, Paradise Bay, Andvord Bay, Pleneau Island, Argentine Islands (Winter Island by Wordie House), Hovgaard Island, Orne Harbour, Leith Cove, Prospect Point, Portal Point, Almirante Brown, Skontorp Cove, Neko Harbour, Cuverville, Port Charcot, Jougla Point, Horseshoe Island, Stony Point, Lefevre-Utile, the Naze, Yalour Islands.

Dates: October 25, 2017-March 31, 2022.

Nadene G. Kennedy,
Polar Coordination Specialist, Office of Polar Programs.

[FR Doc. 2017-22981 Filed 10-23-17; 8:45 am]

BILLING CODE 7555-01-P